DEPARTMENT OF HEALTH AND HUMAN SERVICES

Centers for Disease Control and Prevention

Notice of Award of a Sole Source Cooperative Agreement To Fund the CDC Foundation

AGENCY: Centers for Disease Control and Prevention (CDC), Department of Health and Human Services (HHS).

ACTION: Notice.

SUMMARY: The Centers for Disease Control and Prevention (CDC), located within the Department of Health and Human Services (HHS), announces the award of approximately $17,000,000, with an expected total funding of approximately $68,000,000 over a four-year period, to the National Foundation for the Centers for Disease Control & Prevention, Inc (CDCF). The award will use a national public health organization to strengthen the capacity of state, local and territorial public health departments to implement overdose surveillance and prevention strategies through increased staffing support and strengthen efforts to build and maintain public health/public safety partnerships.

DATES: The period for this award will be September 30, 2024, through September 29, 2028.

FOR FURTHER INFORMATION CONTACT: Cherie Rooks-Peck, National Center of Injury Prevention and Control, Centers for Disease Control and Prevention, 4770 Buford Hwy., Atlanta, GA 30341 USA, Telephone: (404) 639-6429, Email: whq4@cdc.gov.

SUPPLEMENTARY INFORMATION: The sole source award will use a national organization to support state, local and territorial health departments in their implementation of evidence-based overdose prevention and response activities and enhance their partnerships with public safety. Through this project, CDC will support the awardee to (1) hire, train, and support staff for positions supporting critical overdose surveillance and prevention activities; (2) build, enhance, maintain vital partnerships with public safety entities; (3) strengthen collaborations between the health department and other public health and community partners; and (4) provide technical assistance to field staff.

The National Foundation for the Centers for Disease Control & Prevention, Inc (CDCF) is the only entity that can carry out this work because they have earned the trust of health departments and their partners and have been supporting them with this very need by strengthening the public health infrastructure, systems and services for overdose prevention and surveillance efforts for five years through CDC-RFA-OT18-1802. CDCF has a proven track record of successfully recruiting, training, retaining, and building capacity of the public health workforce to support overdose prevention programs such as Overdose Data to Action (OD2A) and the Overdose Response Strategy (ORS)and has established a clear process for infrastructure and capacity building needs. CDCF is widely recognized by public health entities and partners and is the only organization that was created by Congress to mobilize philanthropic and private-sector resources to support the Centers for Disease Control and Prevention's (CDC) critical health protection work which has been critical in allowing this program to support capacity building within state, tribal, local, and territorial health departments and partnership development across all facets of public health.

Summary of the Award

Recipient: National Foundation for the Centers for Disease Control & Prevention, Inc. (CDCF).

Purpose of the Award: The purpose of this award is to support a national organization that will work with state, local and territorial health departments in their implementation of evidence-based overdose prevention and response activities that support OD2A in States, OD2A: LOCAL, and ORS recipients through staffing support and enhance their partnerships with public safety entities. CDCF will also provide training and technical assistance opportunities to field staff to enhance their capacity to support the implementation of evidence-based overdose prevention and response activities, and engage in various evaluation, reporting, communication, and dissemination activities to demonstrate the reach, success, and effectiveness of these capacity building activities.

Amount of Award: $17,000,000 in Federal Fiscal Year (FFY) 2024 funds, with a total estimated $68,000,000 for the four-year period of performance, subject to availability of funds.

Authority: This program is authorized under section 392(b)(1) and (2) of the Public Health Service (PHS) Act (42 U.S.C. 280b-0(b)(1) and (2)) and section 301(a) of the PHS Act (42 U.S.C. 241(a)).

Period of Performance: September 30, 2024, through September 29, 2028.

Dated: August 14, 2024.
Terrance Perry,
Acting Director, Office of Grants Services, Centers for Disease Control and Prevention.

[FR Doc. 2024-18782 Filed 8-21-24; 8:45 am]

BILLING CODE 4163-18-P